DEPARTMENT OF ENERGY

Federal Energy Regulatory Commission

[Docket No. CP08-187-000]

Equitrans, L.P.; Notice of Request Under Blanket Authorization

May 7, 2008.

Take notice that on April 24, 2008, Equitrans, L.P. (Equitrans), 225 North Shore Drive, Pittsburgh, Pennsylvania 15212, filed in Docket No. CP08-187-000, a prior notice request pursuant to sections 157.205 and 157.210 of the Federal Energy Regulatory Commission's regulations under the Natural Gas Act for authorization to replace approximately 9.71 miles of Line No. H-152, located in Allegheny and Washington Counties, Pennsylvania, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Equitrans proposes to replace approximately 9.71 noncontiguous miles of 16-inch diameter bare steel pipeline, located in Allegheny and Washington Counties, Pennsylvania, with 16-inch diameter coated steel pipeline. Equitrans estimates the cost of construction to be $22,362,143. Equitrans states that the replacement project is necessitated by the age and condition of the existing bare steel pipeline. Equitrans asserts that there are nine segments planned for replacement.

Any questions regarding the application should be directed to David K. Dewey, Vice President & General Counsel, Equitrans, L.P., 225 North Shore Drive, Pittsburgh, Pennsylvania 15212, at (412) 395-2566 or facsimile at (412) 395-3347.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E8-10955 Filed 5-15-08; 8:45 am]

BILLING CODE 6717-01-P